DEPARTMENT OF VETERANS AFFAIRS

Privacy Act of 1974; System of Records

AGENCY: Department of Veterans Affairs (VA), Veterans Health Administration (VHA).

ACTION: Rescindment of a system of records.

SUMMARY: VA is rescinding an outdated system of records titled, “Community Placement Program-VA” (65VA122) as set forth in the Federal Register. This system was used to provide administrative documentation of State and/or local active licensed VA Community Placement Program agencies.

DATES: The system was discontinued on December 1, 2008. Comments on this rescinded system of records must be received no later than 30 days after date of publication in the Federal Register. If no public comment is received during the period allowed for comment or unless otherwise published in the Federal Register by the VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005X6F), Washington, DC 20420. Comments should indicate that they are submitted in response to “Community Placement Program-VA” (65VA122). Comments received will be available at regulations.gov for public viewing, inspection or copies.

FOR FURTHER INFORMATION CONTACT: Stephania Griffin, VHA Chief Privacy Officer, Department of Veterans Affairs, 810 Vermont Avenue NW, (105HIG) Washington, DC 20420; telephone (704) 245-2492 (Note: this is not a toll-free number).

SUPPLEMENTARY INFORMATION: Categories of individuals covered by the system were individuals who operated a Community Placement facility (Community Nursing Home) approved for placement of VA beneficiaries, and VA beneficiaries in Community Placement facilities. Records were maintained on magnetic tapes which are stored at the Austin Information Technology Center, and paper documents (printouts) were maintained at VA Central Office and the health care facilities.

This system of records notice is being rescinded as a result of the Community Residential Care being merged with the Medical Foster Homes. This information is now located within the system of records titled, “Community Residential Care and Medical Foster Home Programs-VA” (142VA10). The records associated with the Community Placement Program were destroyed in accordance with VHA Records Control Schedule 10-1, item number 6110.4.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on October 24, 2023 for publication.

Dated: October 25, 2023.
Amy L. Rose,
Government Information Specialist, VA Privacy Service, Office of Compliance, Risk and Remediation, Office of Information and Technology, Department of Veterans Affairs.

SYSTEM NAME:

“Community Placement Program-VA” (65VA122).

HISTORY:

74 FR 33024 (July 9, 2009).

[FR Doc. 2023-23878 Filed 10-27-23; 8:45 am]

BILLING CODE P